DEPARTMENT OF DEFENSE

GENERAL SERVICES ADMINISTRATION

NATIONAL AERONAUTICS AND SPACE ADMINISTRATION

48 CFR Parts 1, 2, and 31

[FAC 2005-65; Item V; Docket 2013-0080; Sequence 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective Date: January 29, 2013.

FOR FURTHER INFORMATION CONTACT: The Regulatory Secretariat, 1275 First Street NE., 7th Floor, Washington, DC 20417, 202-501-4755, for information pertaining to status or publication schedules. Please cite FAC 2005-65, Technical Amendments.

SUPPLEMENTARY INFORMATION: In order to update certain elements in 48 CFR parts 1, 2, and 31, this document makes editorial changes to the FAR.

List of Subjects in 48 CFR Parts 1, 2, and 31

Government procurement.

Dated: January 23, 2013.
Laura Auletta,
Director, Office of Governmentwide Acquisition Policy, Office of Acquisition Policy, Office of Governmentwide Policy.

Therefore, DoD, GSA, and NASA amend 48 CFR parts 1, 2, and 31 as set forth below:

1. The authority citation for 48 CFR parts 1, 2, and 31 is revised to read as follows:

Authority: 40 U.S.C. 121(c); 10 U.S.C. chapter 137; and 51 U.S.C. 20113.

PART 1—FEDERAL ACQUISITION REGULATIONS SYSTEM

1.106 [Amended]

1. Amend section 1.106 by—

a. Removing from the table following the introductory text, FAR segments “52.234-1” and “34.1” and their corresponding OMB Control Numbers “9000-0133” and “9000-0132”, respectively; and

b. Adding, in numerical sequence, in the table following the introductory text, FAR segments “27.2”, “52.227-2”, “52.227-6”, and “52.227-9” and their corresponding OMB Control Number “9000-0096”.

PART 2—DEFINITIONS OF WORDS AND TERMS

2.000 [Amended]

2. Amend section 2.000 by removing from the last sentence of paragraph (b) “(see the Index for locations)”.

PART 31—CONTRACT COST PRINCIPLES AND PROCEDURES

31.205-6 [Amended]

3. Amend section 31.205-6 by removing from paragraph (o)(2)(iii)(A)(2)(i) “healthcare inflation” and adding “health care inflation” in its place.

[FR Doc. 2013-01751 Filed 1-28-13; 8:45 am]

BILLING CODE 6820-EP-P